DEPARTMENT OF ENERGY

Federal Energy Regulatory Commission

Notice of Effectiveness of Exempt Wholesale Generator Status

| Docket Nos.
AES Westwing II ES, LLC | EG24-157-000.
AES ES Alamitos 2, LLC | EG24-158-000.
Carvers Creek LLC | EG24-159-000.
Silver Peak Solar, LLC | EG24-160-000.
Split Rail Solar Energy LLC | EG24-161-000.
Three Rivers Solar Power, LLC | EG24-162-000.
Sol Madison Solar, LLC | EG24-163-000.
High River Energy Center, LLC | EG24-164-000.
Liberty County Solar Project, LLC | EG24-165-000.
North Fork Solar Project, LLC | EG24-166-000.
Markum Solar Farm, LLC | EG24-167-000.
Kimmel Road Solar, LLC | EG24-168-000.
BCD 2024 Fund 3 Lessee, LLC | EG24-169-000.
Peacock Energy Project, LLC | EG24-170-000.
Yum Yum Solar LLC | EG24-171-000.
Morris Ridge Solar Energy Center, LLC | EG24-172-000.

Take notice that during the month of June 2024, the status of the above-captioned entities as Exempt Wholesale Generators became effective by operation of the Commission's regulations. 18 CFR 366.7(a) (2023).

Dated: July 2, 2024.
Debbie-Anne A. Reese,
Acting Secretary.

[FR Doc. 2024-15076 Filed 7-9-24; 8:45 am]

BILLING CODE 6717-01-P